DEPARTMENT OF THE INTERIOR

Fish and Wildlife Service

Notice of Receipt of Application for Approval

AGENCY: Fish and Wildlife Service, Interior.

ACTION: Notice of receipt of application for approval.

SUMMARY: The public is invited to comment on the following application for approval to conduct certain activities with birds that are protected in accordance with the Wild Bird Conservation Act of 1992. This notice is provided pursuant to section 112(4) of the Wild Bird Conservation Act of 1992, 50 CFR 15.26(c).

DATES: Written data, comments, or requests for a copy of this complete application must be received by August 23, 2002.

ADDRESSES: Written data, comments, or requests for a copy of this complete application should be sent to the Chief, U.S. Fish and Wildlife Service, Division of Management Authority, 4401 North Fairfax Drive, Room 700, Arlington, Virginia 22203.

FOR FURTHER INFORMATION CONTACT: Andrea Gaski, Chief, Branch of CITES Operations, Division of Management Authority, at 703-358-2095.

SUPPLEMENTARY INFORMATION:

Applicant: Ms. Cathy S. MacKay of Redding, California.

The applicant wishes to establish a cooperative breeding program for silver-eared mesia (Leiothrix argentauris) and red-billed leiothrix (Leiothrix lutea). The applicant wishes to be an active participant in this program along with eight other individuals. The National Finch and Softbill Society has agreed to assume oversight responsibility of this program if it is approved. Documents and other information submitted with this application are available for review, subject to the requirements of the Privacy Act and Freedom of Information Act, by any party who submits a written request for a copy of such documents to the following office within 30 days of the date of publication of this notice.

Dated: July 11, 2002.
Mark Albert,
Acting Chief, Branch of CITES Operations, Division of Management Authority.

[FR Doc. 02-18692 Filed 7-23-02; 8:45 am]

BILLING CODE 4310-55-P